DEPARTMENT OF HOMELAND SECURITY

Federal Emergency Management Agency

Agency Information Collection Activities: Proposed Collection; Comment Request

AGENCY: Federal Emergency Management Agency, DHS.

ACTION: Notice; 60-day notice and request for comments; Extension, without change, of a currently approved collection, OMB Number 1660-0020; No Forms.

SUMMARY: The Federal Emergency Management Agency, as part of its continuing effort to reduce paperwork and respondent burden, invites the general public and other Federal agencies to take this opportunity to comment on a continuing information collection. In accordance with the Paperwork Reduction Act of 1995, this notice seeks comments concerning Write Your Own Companies requirements to submit financial data to FEMA on a monthly basis.

SUPPLEMENTARY INFORMATION: Under the Write Your Own (WYO) Program, FEMA regulation 44 CFR 62.3 authorizes the Federal Insurance Administrator to enter into arrangements with individual private sector insurance companies that are licensed to engage in the business of property insurance. To insure that any policyholder money is accounted for and appropriately expended, the Federal Insurance and Mitigation Administration (FIMA) and WYO companies implemented a Financial Control Plan under FEMA regulation 44 CFR Part 62, Appendix B. This plan requires that each WYO company submit financial data on a monthly basis.

Collection of Information

Title: Write Your Own (WYO) Program.

Type of Information Collection: Extension, without change, of a currently approved collection.

OMB Number: 1660-0020.

Form Numbers: None.

Abstract: Under the Write Your Own (WYO) Program, private sector insurance companies may offer flood insurance to eligible property owners. The Federal Government is guarantor of flood insurance coverage for WYO companies, issued under the WYO arrangements.

Affected Public: Business or other for-profit.

Estimated Total Annual Burden Hours: 687 hours.

Annual Hour Burden
Data collection activity/instrument | Number of respondents | Frequency of responses | Hour burden per response | Annual responses | Total annual burden hours
| (A) | (B) | (C) | (D) = (A × B) | (C × D)
Financial Report (WYO) | 97 | 12 | .59 | 1,164 | 687
Total | 97 | 12 | .59 | 1,164 | 687

Estimated Cost: The estimated annualized cost to respondents based on wage rate categories is $18,782.00. The estimated annual cost to the Federal Government is $168,907.00.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before July 14, 2008.

ADDRESSES: Interested persons should submit written comments to Office of Management, Records Management Division, Federal Emergency Management Agency, 500 C Street, SW., Washington, DC 20472, Mail Drop Room 301, 1800 S. Bell Street, Arlington, VA 22202.

FOR FURTHER INFORMATION CONTACT: Contact Kevin Montgomery, Financial Management Specialist, Federal Insurance and Mitigation Administration, (301) 918-1453 for additional information. You may contact the Records Management Section for copies of the proposed collection of information at facsimile number (202) 646-3347 or e-mail address: FEMA-Information-Collections@dhs.gov.

Dated: April 28, 2008.
John A. Sharetts-Sullivan,
Director, Records Management Division, Office of Management, Federal Emergency Management Agency, Department of Homeland Security.

[FR Doc. E8-10593 Filed 5-12-08; 8:45 am]

BILLING CODE 9110-11-P